NUCLEAR REGULATORY COMMISSION

[Docket No. STN 50-528]

Arizona Public Service Co.; Notice of Withdrawal of Application for Amendment to Facility Operating License

The U.S. Nuclear Regulatory Commission (the Commission) has granted the request of Arizona Public Service Company (the licensee) to withdraw its application dated September 26, 2002, and its supplement dated October 23, 2002, for proposed amendment to Facility Operating License No. NPF-41 for the Palo Verde Nuclear Generating Station, Unit No. 1, located in Maricopa County, Arizona.

The proposed amendment would have revised the definition of steam generator tube inspection in Section 5.5.9, “Steam Generator (SG) Tube Surveillance Program,” of the Technical Specifications.

The Commission had previously issued Notices of Consideration of Issuance of Amendment published in the Federal Register on October 3, 2002 (67 FR 62079) and on November 26, 2002 (67 FR 70763). The initial notice stated that the amendment had been submitted under exigent circumstances, to be issued on or about October 25, 2002, with the public comment period being less than the normal 30-day period. The basis for the exigent circumstances was provided in the notice. However, on October 25, 2002, the NRC staff issued a letter to the licensee stating that the proposed amendment was not needed on an exigent basis prior to plant restart. Therefore, the second notice was published to provide the normal 30-day public comment period for the amendment. By letter dated November 19, 2002, the licensee requested to withdraw the proposed amendment request, and by letter dated November 22, 2002, the NRC staff stated that it did not object to the licensee's withdrawal of the application. Therefore, the proposed change effectively has been withdrawn.

For further details with respect to this action, see the application for amendment dated September 26, 2002, and its supplement dated October 23, 2002; the licensee's letter dated November 19, 2002; and the staff's letter of November 22, 2002. Documents may be examined, and/or copied for a fee, at the NRC's Public Document Room (PDR), located at One White Flint North, 11555 Rockville Pike (first floor), Rockville, Maryland. Publicly available records will be accessible electronically from the Agencywide Documents Access and Management Systems (ADAMS) Public Electronic Reading Room on the internet at the NRC Web site, http://www.nrc.gov/reading-rm/adams/html. Persons who do not have access to ADAMS or who encounter problems in accessing the documents located in ADAMS, should contact the NRC PDR Reference staff by telephone at 1-800-397-4209, or 301-415-4737 or by e-mail to pdr@nrc.gov.

Dated at Rockville, Maryland, this 4th day of December, 2002.
For the Nuclear Regulatory Commission.
Jack Donohew,
Senior Project Manager, Section 2, Project Directorate IV, Division of Licensing Project Management, Office of Nuclear Reactor Regulation.

[FR Doc. 02-31437 Filed 12-12-02; 8:45 am]

BILLING CODE 7590-01-P